Proclamation 9367 of November 13, 2015

Get Smart About Antibiotics Week, 2015

By the President of the United States of America

A Proclamation

The discovery of antibiotics marked an important medical moment in history, and for decades, antibiotics have served as crucial components of our fight against bacterial infectious diseases. Saving millions of lives around the world each year, antibiotics provide an effective method for treating patients and help us combat many diseases that were at one time considered fatal. However, their overuse and misuse has created bacteria with increased levels of antibiotic resistance, posing significant challenges to countering infectious disease. We must preserve the life-saving power of antibiotics so they will work when most needed for serious infections and for generations to come. This week, we recommit to raising awareness of antibiotic-resistant bacteria—a serious public health, economic, and national security threat—and we pledge to use antibiotics safely and responsibly.

Every year, more than 2 million people in the United States are infected with antibiotic-resistant bacteria, and over 23,000 people die as a direct result of these infections. The use of antibiotics is the biggest contributing factor to antibiotic resistance, and up to half of all antibiotics prescribed for humans are not needed or are not administered as effectively as possible. The misuse and overuse of antibiotics continue to obstruct our fight against bacterial drug resistance, leading to a loss of the efficacy of existing antibiotics. And to fully address antibiotic resistance, we must recognize that the health of humans, animals, and the environment are more connected than ever before.

My Administration is committed to preventing infections and improving the ways in which antibiotics are prescribed and used—an effort that could save tens of thousands of lives in the next few years alone. Last year, I signed an Executive Order to implement measures aimed at detecting, preventing, and controlling illnesses caused by antibiotic-resistant infections here at home and across the globe. This action will help stem the emergence and proliferation of bacteria resistant to antibiotics and ensure the continued availability of effective treatments for bacterial infections. This Order also directed the development of a Government-wide, 5-year National Action Plan for Combating Antibiotic-Resistant Bacteria, which is designed to accelerate actions to address urgent and serious drug-resistant threats that can affect all people. The plan enhances our efforts to slow the spread of resistant bacterial infections, strengthens our work to combat resistance, advances the ways we identify and characterize resistant bacteria, supports the research and development of new diagnostic tests and treatments, and bolsters collaboration with international partners to create a coordinated system for international surveillance. To build on this comprehensive effort, we convened a White House Forum on Antibiotic Stewardship earlier this year, bringing together health, business, academic, and agricultural leaders to promote the responsible use of antibiotics in humans and animals. By ensuring antibiotics are used carefully and only when needed, we can help safeguard the health of our people and people around the world.

The United States has the ability to lead a new era in health care. Antibiotic stewardship in science and medicine requires working with global partners, and it demands that we provide the tools and resources necessary for individuals to use antibiotics safely and effectively. Throughout this week, let us rededicate our attention toward the effects of the misuse and overuse of antibiotics, and let us reaffirm our support for those striving to combat antibiotic-resistant bacteria.

NOW, THEREFORE, I, BARACK OBAMA, President of the United States of America, by virtue of the authority vested in me by the Constitution and the laws of the United States, do hereby proclaim November 16 through November 22, 2015, as Get Smart About Antibiotics Week. I call upon the scientific community, medical professionals, educators, businesses, industry leaders, and all Americans to observe this week by promoting the responsible use of antibiotics and raising awareness of the dangers inherent to their misuse and overuse.

IN WITNESS WHEREOF, I have hereunto set my hand this thirteenth day of November, in the year of our Lord two thousand fifteen, and of the Independence of the United States of America the two hundred and fortieth.

[FR Doc. 2015-29628

Filed 11-17-15; 11:15 am]

Billing code 3295-F6-P